DEPARTMENT OF DEFENSE

Office of the Secretary

[Transmittal No. 21-0E]

Arms Sales Notification

AGENCY: Defense Security Cooperation Agency, Department of Defense (DoD).

ACTION: Arms sales notice.

SUMMARY: The Department of Defense is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0E with attached Policy Justification.

Dated: February 25, 2022.
Aaron T. Siegel,
Alternate OSD Federal Register Liaison Officer, Department of Defense.

BILLING CODE 5001-06-P

BILLING CODE 5001-06-C

Transmittal No. 21-0E

REPORT OF ENHANCEMENT OR UPGRADE OF SENSITIVITY OF TECHNOLOGY OR CAPABILITY (SEC. 36(B)(5)(C), AECA)

(i) Prospective Purchaser: Taipei Cultural and Economic Representative Office (TECRO) in the United States.

(ii) Sec. 36(b)(1), AECA Transmittal No.: 19-50.

Date: August 20, 2019

Military Department: Air Force

Funding Source: National Funds

(iii) Description: On August 20, 2019, Congress was notified by Congressional certification transmittal number 19-50 of the possible sale, under Section 36(b)(1) of the Arms Export Control Act, of sixty-six (66) F-16C/D Block 70 aircraft; seventy-five (75) F110 General Electric Engines (includes 9 spares); seventy-five (75) Link-16 Systems (includes 9 spares); seventy-five (75) Improved Programmable Display Generators (iPDG) (includes 9 spares); seventy-five (75) APG-83 Active Electronically Scanned Array (AESA) Radars (includes 9 spares); seventy-five (75) Modular Mission Computers 7000AH (includes 9 spares); seventy-five (75) LN-260 Embedded GPS/INS (includes 9 spares); seventy-five (75) M61 Vulcan 20mm Guns (includes 9 spares); one-hundred thirty-eight (138) LAU-129 Multipurpose Launchers; six (6) FMU-139D/B Fuze for Guided Bombs; six (6) FMU-139D/B Inert Fuze for Guided Bombs; six (6) FMU 152 Fuze for Guided Bombs: six (6) MK-82 Filled Inert Bombs for Guided Bombs; and three (3) KMU-572 Joint Direct Attack Munition (JDAM) Tail Kits, GBU-38/54. Also included are seventy-five (75) AN/ALE-47 Countermeasure Dispensers (includes 9 spares); one-hundred twenty (120) ALE-50 towed decoy or equivalent; seventy-five (75) APX-126 Advanced Identification Friend or Foe (includes 9 spares); seventy five (75) AN/ALQ-211 A(V)4 Airborne Integrated Defensive Electronic Warfare Suite (AIDEWS) or equivalent (includes 9 spares); EW Line Replaceable Unit (LRU) and Standard Electronic Module (SEM) spares; one hundred fifty (150) ARC-238 radios (includes 18 spares); Secure Communications and Cryptographic Appliques including seventy-three (73) KIV-78 cryptographic COMSEC devices, and ten (10) AN/PYQ-10 Simple Key Loaders (SKLs) for COMSEC; three (3) Joint Mission Planning Systems (JMPS); twenty-seven (27) Joint Helmet Mounted Cueing Systems (JHMCS) II with Night Vision Device (NVD) compatibility or Scorpion Hybrid Optical-based Inertial Tracker (HOblT) helmet mounted cueing system with NVD compatibility; seventy (70) NVDs; six (6) NVD spare image intensifier tubes; Cartridge Actuated Devices/Propellant Actuated Devices (CAD/PAD); cartridges; chaff; flares; three (3) each DSU-38A/B Precision Laser Guidance Sensor (PLGS) for GBU-54 Laser Joint Direct Attack Munition (LJDAM) integration; PGU-28A/B 20mm ammunition; telemetry units for integration and test; bomb components; twenty (20) ground debriefing stations; Electronic Combat International Security Assistance Program (ECISAP) support including EW database and Mission Data File (MDF) development (classified/unclassified); communications equipment; classified/unclassified spares, repair, support equipment, test equipment, software delivery/support, personnel training, training equipment, flight/tactics manuals, publications and technical documentation; bomb racks; Organizational, Intermediate and Depot level tooling; Pilot Life Support Equipment (PLSE); Alternate Mission Equipment (AME); ground training devices (including flight and maintenance simulators); containers; development, integration, test and engineering, technical and logistical support of munitions; aircraft ferry; studies and surveys; construction services; U.S. Government and contractor engineering, technical and logistical support services; and other related elements of logistics, program and sustainment support. The estimated total cost was $8.0 billion. Major Defense Equipment (MDE) constituted $5.1 billion of this total.

This transmittal reports the addition of fifty-seven (57) Sniper Advanced Targeting Pods (ATPs) (AN/AAQ-33) (MDE). The following non-MDE items will also be included: Infrared Search and Track (IRST) pods (IRST International); IRST and Sniper ATP shipping containers; pylons; spare parts; repair and return; publications and technical documentation; software support; integration and test support; U.S. Government and Contractor engineering, technical and logistics support; and additional familiarization training. Additionally, this transmittal amends the original CN's reference to a specific electronic warfare system, to a successfully engineered and tested future Electronic Warfare (EW) Suite, integrated on the F-16V Block 70 aircraft. The total cost of the new MDE articles is $154.33 million, and the total cost of the new non-MDE articles is $307.52 million. The total notified cost of MDE will not increase, and the total notified case value will remain $8.0 billion.

(iv) Significance: This notification is being provided as the additional MDE items were not enumerated in the original notification. Their inclusion represents an increase in capability over what was previously notified. As the recipient continues with its plans to develop its F-16 fleet, it has requested integration of IRST and Sniper capabilities. The proposed articles and services increases the recipient's capability to participate in Indo-Pacific region security operations and improves the recipient's credible defense capability.

(v) Justification: This proposed sale is consistent with U.S. law and policy as expressed in Public Law 96-8. This proposed sale serves U.S. national, economic, and security interests by supporting the recipient's continuing efforts to modernize its armed forces and to maintain a credible defensive capability. The proposed sale will help improve the security of the recipient and assist in maintaining political stability, military balance, economic and progress in the region.

(vi) Sensitivity of Technology: The Sniper ATP is an electro-optical targeting system housed in a single, lightweight pod. It is the most widely fielded combat-tested targeting pod system employed today and handles the most challenging precision targeting and intelligence, surveillance and reconnaissance air-to-air and air-to-ground missions in the land, sea, and air domains.

The IRST is a type of sensor that can detect and track threats that have infrared signatures, at long ranges. It can act without emitting any radiation of its own and enables aircrews to detect adversaries, before those adversaries see or sense them.

The highest level of classification of information included in this potential sale is SECRET.

(vii) Date Report Delivered to Congress: April 21, 2021

[FR Doc. 2022-04482 Filed 3-2-22; 8:45 am]

BILLING CODE 5001-06-P